DEPARTMENT OF ENERGY

Federal Energy Regulatory Commission

Combined Notice of Filings

December 10, 2008.

Take notice that the Commission has received the following Natural Gas Pipeline Rate and Refund Report filings:

Docket Numbers: RP00-500-007.

Applicants: Chandeleur Pipe Line Company.

Description: Chandeleur Pipe Line Co submits Sixth Revised Sheet 73 to FERC Gas Tariff, Second Revised Volume 1.

Filed Date: 12/08/2008.

Accession Number: 20081210-0091.

Comment Date: 5 p.m. Eastern Time on Monday, December 22, 2008.

Docket Numbers: RP09-39-001.

Applicants: Kinder Morgan Interstate Gas Trans. LLC.

Description: Kinder Morgan Interstate Gas Transmission LLC submits Sub. First Revised Sheet et al. part of its FERC Gas Tariff, Fourth Revised Volume 1-A.

Filed Date: 12/05/2008.

Accession Number: 20081208-0553.

Comment Date: 5 p.m. Eastern Time on Wednesday, December 17, 2008.

Docket Numbers: RP09-135-000.

Applicants: Transcontinental Gas Pipeline Corporation.

Description: Transcontinental Gas Pipe Line Corp submits the Forty-Third Revised Sheet 28 to its FERC Gas Tariff, Third Revised Volume 1, to be effective 12/1/08.

Filed Date: 12/04/2008.

Accession Number: 20081208-0403.

Comment Date: 5 p.m. Eastern Time on Tuesday, December 16, 2008.

Docket Numbers: RP09-136-000.

Applicants: Midcontinent Express Pipeline LLC.

Description: Midcontinent Express Pipeline, LLC Original Sheet 1 et al. to FERC Gas Tariff, Original Volume 1, to be effective 3/1/09.

Filed Date: 12/04/2008.

Accession Number: 20081208-0404.

Comment Date: 5 p.m. Eastern Time on Tuesday, December 16, 2008.

Docket Numbers: RP09-137-000.

Applicants: Northern Natural Gas Company.

Description: Petition of Northern Natural Gas Co for limited waiver of tariff provisions.

Filed Date: 12/05/2008.

Accession Number: 20081208-0402.

Comment Date: 5 p.m. Eastern Time on Wednesday, December 17, 2008.

Docket Numbers: RP09-138-000.

Applicants: Questar Overthrust Pipeline Company.

Description: Questar Overthrust Pipeline Co submits Third Revised Sheet 4 et al. to FERC Gas Tariff, Second Revised Volume 1-A.

Filed Date: 12/05/2008.

Accession Number: 20081208-0401.

Comment Date: 5 p.m. Eastern Time on Wednesday, December 17, 2008.

Docket Numbers: RP09-139-000.

Applicants: Dominion Cove Point LNG, LP.

Description: Dominion Cove Point LNG, LP submits Tenth Revised Sheet 11 et al. of its FERC Gas Tariff, Original Volume 1.

Filed Date: 12/05/2008.

Accession Number: 20081208-0552.

Comment Date: 5 p.m. Eastern Time on Wednesday, December 17, 2008.

Docket Numbers: RP09-140-000.

Applicants: Wyoming Interstate Company, Ltd.

Description: Wyoming Interstate Company, Ltd submits Second Revised Sheet 42A to FERC Gas Tariff 2R2.

Filed Date: 12/05/2008.

Accession Number: 20081208-0549.

Comment Date: 5 p.m. Eastern Time on Wednesday, December 17, 2008.

Docket Numbers: RP09-141-000.

Applicants: Columbia Gulf Transmission Company.

Description: Columbia Gulf Transmission Company submits Ninth Revised Sheet 1 to FERC Gas Tariff 1R2.

Filed Date: 12/05/2008.

Accession Number: 20081208-0548.

Comment Date: 5 p.m. Eastern Time on Wednesday, December 17, 2008.

Docket Numbers: RP09-142-000.

Applicants: Columbia Gas Transmission Corporation.

Description: Columbia Gas Transmission Corporation submits Eight Revised Sheet 1 to FERC Gas Tariff 1R2.

Filed Date: 12/05/2008

Accession Number: 20081208-0547.

Comment Date: 5 p.m. Eastern Time on Wednesday, December 17, 2008.

Docket Numbers: RP09-143-000.

Applicants: Texas Eastern Transmission, L.P.

Description: Texas Eastern Transmission, LP submits request that the Commission acknowledge that the capacity release posting and bidding requirements are unnecessary for negotiated fuel caps associated with the service agreements, etc.

Filed Date: 12/05/2008.

Accession Number: 20081208-0546.

Comment Date: 5 p.m. Eastern Time on Wednesday, December 17, 2008.

Docket Numbers: RP09-144-000.

Applicants: El Paso Natural Gas Company.

Description: El Paso Natural Gas Company submits Second Revised Volume 1A to its FERC Gas Tariff, effective 2/1/09.

Filed Date: 12/05/2008.

Accession Number: 20081208-0554.

Comment Date: 5 p.m. Eastern Time on Wednesday, December 17, 2008.

Docket Numbers: RP09-145-000.

Applicants: Wyoming Interstate Company, Ltd.

Description: Wyoming Interstate Co, Ltd submits Sixth Revised Sheet 4D et al. to FERC Gas Tariff, Second Revised Volume 2, to be effective 12/22/08.

Filed Date: 12/08/2008.

Accession Number: 20081210-0093.

Comment Date: 5 p.m. Eastern Time on Monday, December 22, 2008.

Docket Numbers: RP09-146-000.

Applicants: Wyoming Interstate Company, Ltd.

Description: Wyoming Interstate Co, Ltd submits two Firm Transportation Service Agreements with Williams Gas Marketing, Inc et al. and Eleventh Revised Sheet 1 to its FERC Gas Tariff, Second Revised Volume 2, to be effective 12/22/08.

Filed Date: 12/08/2008.

Accession Number: 20081210-0092.

Comment Date: 5 p.m. Eastern Time on Monday, December 22, 2008.

Docket Numbers: RP09-147-000.

Applicants: Southern Natural Gas Company.

Description: Southern Natural Gas Co submits Seventeenth Revised Sheet 2 et al. to FERC Gas Tariff, Seventh Revised Volume 1, to be effective 1/9/09.

Filed Date: 12/08/2008.

Accession Number: 20081210-0094.

Comment Date: 5 p.m. Eastern Time on Monday, December 22, 2008.

Docket Numbers: CP07-32-007.

Applicants: Gulf South Pipeline Company, L.P.

Description: Gulf South Pipeline Company, L.P., submits Second Sub Fourteenth Revised Sheet No. 20 et al., to FERC Gas Tariff, Sixth Revised Volume No. 1, to be effective 5/27/08.

Filed Date: 12/03/2008.

Accession Number: 20081205-0029.

Comment Date: 5 p.m. Eastern Time on Monday, December 22, 2008.

Docket Numbers: CP09-28-000.

Applicants: Transcontinental Gas Pipe Line Corporation.

Description: Application of City of Alexander City, Alabama for order permitting and approving abandonment of service re Transcontinental Gas Pipe Line Corporation.

Filed Date: 12/04/2008.

Accession Number: 20081208-0555.

Comment Date: 5 p.m. Eastern Time on Monday, December 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-29620 Filed 12-12-08; 8:45 am]

BILLING CODE 6717-01-P